OFFICE OF PERSONNEL MANAGEMENT

Excepted Service

AGENCY: Office of Personnel Management (OPM).

ACTION: Notice.

SUMMARY: This notice identifies Schedule A, B, and C appointing authorities applicable to a single agency that was established, modified, or revoked from July 1, 2023, to July 31, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified, or revoked from July 1, 2023, to July 31, 2023.

Schedule A

No Schedule A Authorities to report during July 2023.

Schedule B

No Schedule B Authorities to report during July 2023.

Schedule C

The following Schedule C appointing authorities were approved during July 2023.

Agency name | Organization name | Position title | Authorization No. | Effective date
DEPARTMENT OF AGRICULTURE | Rural Housing Service | Deputy Chief of Staff | DA230122 | 07/05/2023
| Office of the Assistant Secretary for Congressional Relations | Special Assistant | DA230121 | 07/07/2023
UNITED STATES AGENCY FOR GLOBAL MEDIA | United States Agency for Global Media | Director of Public Affairs | IB230008 | 07/27/2023
DEPARTMENT OF COMMERCE | Bureau of Industry and Security | Senior Advisor | DC230160 | 07/13/2023
| Office of Economic Development Administration | Policy Advisor | DC230167 | 07/14/2023
| Office of International Trade Administration | Special Advisor | DC230165 | 07/13/2023
| Office of National Institute of Standards and Technology | Director of Intergovernmental Affairs | DC230163 | 07/13/2023
| Office of Executive Secretariat | Special Assistant | DC230171 | 07/27/2023
| Office of Legislative and Intergovernmental Affairs | Director of Legislative Affairs | DC230164 | 07/13/2023
|  | Director of Intergovernmental Affairs | DC230166 | 07/13/2023
| Office of Public Affairs | Director of the Office of Public Affairs | DC230161 | 07/13/2023
| Office of the Assistant Secretary for Economic Development | Special Assistant | DC230162 | 07/13/2023
COMMISSION ON CIVIL RIGHTS | Commission on Civil Rights | Special Assistant to the Commissioner | CC230003 | 07/10/2023
| Office of Commissioners | Special Assistant | CC230002 | 07/13/2023
COMMODITY FUTURES TRADING COMMISSION | Office of the Chairperson | Senior Advisor | CT230002 | 07/24/2023
COUNCIL ON ENVIRONMENTAL QUALITY | Council on Environmental Quality | Senior Director for Water | EQ230006 | 07/13/2023
|  | Policy Advisor for Clean Energy and Infrastructure | EQ230007 | 07/17/2023
DEPARTMENT OF DEFENSE | Office of the Assistant Secretary of Defense (Energy, Installations and Environment) | Special Assistant | DD230178 | 07/07/2023
| Office of the Assistant Secretary of Defense (Special Operations/Low Intensity Conflict) | Chief of Staff for Assistant Secretary of Defense (Special Operations/Low-Intensity Conflict) | DD230183 | 07/21/2023
| Washington Headquarters Services | Defense Fellow (4) | DD230170 DD230179 DD230175 DD230184 | 07/07/2023 07/10/2023 07/12/2023 07/14/2023
DEPARTMENT OF THE AIR FORCE | Office of Assistant Secretary of the Air Force for Manpower and Reserve Affairs | Special Assistant | DF230019 | 07/21/2023
DEPARTMENT OF THE ARMY | Office Assistant Secretary Army (Civil Works) | Special Assistant to the Assistant Secretary of the Army (Civil Works) | DW230029 | 07/26/2023
DEPARTMENT OF EDUCATION | Office for Civil Rights | Confidential Assistant | DB230096 | 07/24/2023
| Office of Communications and Outreach | Special Assistant, Youth Engagement | DB230102 | 07/24/2023
| Office of Postsecondary Education | Chief of Staff | DB230101 | 07/25/2023
DEPARTMENT OF ENERGY | Office of the Assistant Secretary for Congressional and Intergovernmental Affairs | Regional and Intergovernmental Affairs Specialist for the Mid-Atlantic | DE230143 | 07/31/2023
|  | Regional Intergovernmental and External Affairs Specialist | DE230144 | 07/31/2023
ENVIRONMENTAL PROTECTION AGENCY | Office of the Administrator | White House Liaison | EP230107 | 07/07/2023
GENERAL SERVICES ADMINISTRATION | Office of the General Counsel | Oversight Attorney | GS230034 | 07/20/2023
| Office of the Administrator | Special Assistant | GS230035 | 07/31/2023
DEPARTMENT OF HEALTH AND HUMAN SERVICES | Office of the Assistant Secretary for Public Affairs | Advisor for Strategic Planning | DH230206 | 07/10/2023
| Centers for Disease Control and Prevention | Special Assistant | DH230222 | 07/13/2023
| Office of Administration for Children and Families | Director of Communications | DH230223 | 07/13/2023
| Office of the Secretary | Senior Advisor to the Executive Secretary | DH230226 | 07/13/2023
|  | Special Assistant and Briefing Book Coordinator | DH230225 | 07/24/2023
DEPARTMENT OF HOMELAND SECURITY | Office of Legislative Affairs | Advisor for Strategic Engagement | DM230269 | 07/07/2023
| Office of the Secretary | Special Assistant | DM230293 | 07/21/2023
| Transportation Security Administration | Advisor to the Executive Director for Strategy Policy | DM230278 | 07/27/2023
DEPARTMENT OF HOUSING AND URBAN DEVELOPMENT | Office of the Administration | Chief of Staff | DU230067 | 07/13/2023
| Office of Congressional and Intergovernmental Relations | Congressional Relations Specialist | DU230070 | 07/26/2023
|  | Senior Advisor for Intergovernmental Relations | DU230071 | 07/31/2023
DEPARTMENT OF THE INTERIOR | Secretary's Immediate Office | Deputy White House Liaison Advisor | DI230076 DI230077 | 07/13/2023 07/13/2023
DEPARTMENT OF JUSTICE | Office of Legislative Affairs | Counsel | DJ230121 | 07/03/2023
DEPARTMENT OF LABOR | Department of Labor | Senior Advisor | DL230081 | 07/13/2023
| Office of Public Affairs | Deputy Press Secretary | DL230077 | 07/10/2023
| Office of the Secretary | Senior Counselor Special Advisor | DL230079 DL230080 | 07/12/2023 07/12/2023
|  | Deputy White House Liaison | DL230084 | 07/27/2023
OFFICE OF SCIENCE AND TECHNOLOGY POLICY | Office of Science and Technology Policy | Confidential Assistant | TS230006 | 07/07/2023
OFFICE OF THE UNITED STATES TRADE REPRESENTATIVE | Office of Public and Media Affairs | Press Secretary | TN230016 | 07/10/2023
SECURITIES AND EXCHANGE COMMISSION | Office of Public Affairs | Writer-Editor | SE230009 | 07/06/2023
| Office of the Chairman | Confidential Assistant | SE230008 | 07/07/2023
DEPARTMENT OF STATE | Bureau of Democracy, Human Rights and Labor | Senior Advisor | DS230149 | 07/14/2023
| Bureau of Global Public Affairs | Special Advisor (2) | DS230157 DS230162 | 07/27/2023 07/27/2023
| Bureau of Legislative Affairs | Deputy Assistant Secretary (Senate) | DS230161 | 07/28/2023
| Office of the Deputy Secretary for Management and Resources | Staff Assistant | DS230156 | 07/28/2023
DEPARTMENT OF TRANSPORTATION | Office of the Secretary Office of the Assistant Secretary for Governmental Affairs | Staff Assistant Strategic Director of Governmental Affairs | DS230159 DT230116 | 07/28/2023 07/26/2023
|  | Advisor for Governmental Affairs | DT230110 | 07/27/2023
|  | Deputy Assistant Secretary for Intergovernmental Affairs | DT230117 | 07/27/2023
| Office of the Executive Secretariat | Special Assistant | DT230114 | 07/27/2023
| Office of Public Affairs and Public Engagement | Traveling Press Secretary | DT230111 | 07/11/2023
|  | Digital Director | DT230112 | 07/11/2023
|  | Press Assistant | DT230113 | 07/27/2023
| Office of the Deputy Secretary | Deputy Director for Policy | DT230107 | 07/03/2023
| Office of the Under Secretary of Transportation for Policy | Senior Advisor | DT230115 | 07/25/2023
| Office of the Secretary | Policy Advisor Director of Scheduling and Advance | DT230105 DT230109 | 07/10/2023 07/10/2023
DEPARTMENT OF THE TREASURY | Secretary of the Treasury | Senior Advisor Chief Speechwriter | DY230131 DY230132 | 07/21/2023 07/26/2023

The following Schedule C appointing authorities were revoked during July 2023.

Agency name | Organization name | Position title | Request No. | Vacate date
DEPARTMENT OF AGRICULTURE | Farm Service Agency | Special Assistant | DA230040 | 07/01/2023
|  | Chief of Staff | DA220156 | 07/26/2023
| Office of the Assistant Secretary for Administration | Confidential Assistant | DA220168 | 07/29/2023
| Office of the Assistant Secretary for Congressional Relations | Senior Legislative Advisor | DA210104 | 07/15/2023
DEPARTMENT OF COMMERCE | Economic Development Administration | Deputy Chief of Staff | DC230062 | 07/15/2023
| Immediate Office | Advisor for Strategic Initiatives | DC220144 | 07/01/2023
| Office of Legislative and Intergovernmental Affairs | Special Assistant | DC230100 | 07/17/2023
| Office of Public Affairs | Press Assistant | DC220067 | 07/19/2023
|  | Deputy Press Secretary | DC220149 | 07/15/2023
DEPARTMENT OF EDUCATION | Office of Legislation and Congressional Affairs | Confidential Assistant Special Assistant | DB210117 DB210133 | 07/29/2023 07/29/2023
| Office of Planning, Evaluation and Policy Development | Special Assistant | DB220019 | 07/01/2023
| Office of the General Counsel | Special Assistant | DB220086 | 07/21/2023
| Office of the Secretary | Senior Advisor | DB210141 | 07/15/2023
|  | Special Assistant | DB220009 | 07/29/2023
|  | Director, White House Liaison | DB220033 | 07/15/2023
|  | Deputy Director, White House Initiative on Advancing Educational Equity, Excellence and Economic Opportunity for Native Americans and Strengthening Tribal Colleges and Universities | DB220088 | 07/28/2023
DEPARTMENT OF ENERGY | Office of the Assistant Secretary for Congressional and Intergovernmental Affairs | Regional Intergovernmental and External Affairs Specialist for Appalachia | DE210183 | 07/15/2023
DEPARTMENT OF ENERGY | Office of the Under Secretary of Energy | Chief of Staff | DE220079 | 07/01/2023
DEPARTMENT OF HEALTH AND HUMAN SERVICES | Office of the Assistant Secretary for Preparedness and Response | Advisor | DH220045 | 07/01/2023
| Office of the Assistant Secretary for Public Affairs | Senior Advisor for Broadcast and Specialty Media | DH230033 | 07/21/2023
|  | Press Secretary (Health Care) | DH220080 | 07/01/2023
| Office of the Deputy Secretary | Senior Advisor | DH220087 | 07/19/2023
| Office of the Secretary | Deputy Director of Advance | DH220125 | 07/16/2023
|  | Policy Advisor | DH220038 | 07/01/2023
|  | Special Assistant and Briefing Book Coordinator | DH220066 | 07/29/2023
DEPARTMENT OF HOMELAND SECURITY | Management Directorate | Special Assistant | DM210423 | 07/02/2023
| Office of Legislative Affairs | Director of Legislative Affairs | DM220156 | 07/02/2023
|  | Advisor for Strategic Engagement | DM220190 | 07/16/2023
| Office of Public Affairs | Researcher | DM220160 | 07/16/2023
| Manager of Outreach and Communications | DM220281 | 07/30/2023
| Office of Strategy, Policy, and Plans | Special Assistant to the Assistant Secretary | DM220219 | 07/19/2023
| Office of the Secretary | Special Assistant, White House Liaison | DM220189 | 07/02/2023
| United States Customs and Border Protection | Special Assistant | DM220128 | 07/02/2023
DEPARTMENT OF HOUSING AND URBAN DEVELOPMENT | Office of Field Policy and Management | Regional Administrator Region IV | DU220003 | 07/21/2023
| Office of Public Affairs | Press Secretary | DU220064 | 07/01/2023
| Office of the Deputy Secretary | Special Advisor | DU220032 | 07/01/2023
| Office of the Secretary | Special Assistant and Briefing Book Coordinator | DU220057 | 07/28/2023
DEPARTMENT OF JUSTICE | Office of the Attorney General | Counsel | DJ220121 | 07/28/2023
DEPARTMENT OF LABOR | Office of Congressional and Intergovernmental Affairs | Director of Intergovernmental Affairs | DL220016 | 07/20/2023
| Office of the Assistant Secretary for Administration and Management | Chief of Staff | DL220029 | 07/29/2023
| Office of the Secretary | Advisor for Strategic Planning and Special Projects | DL220028 | 07/01/2023
| Office of Wage and Hour Division | Senior Policy Advisor | DL220023 | 07/27/2023
DEPARTMENT OF STATE | Office of Policy Planning | Senior Advisor | DS220022 | 07/01/2023
| Office of the Chief of Protocol | Protocol Officer (Diplomatic Partnerships) | DS210287 | 07/01/2023
| Office of the Secretary | Chief of Staff | DS210258 | 07/29/2023
| Office of the Under Secretary for Management | Staff Assistant | DS230025 | 07/01/2023
DEPARTMENT OF THE ARMY | Office Assistant Secretary Army (Manpower and Reserve Affairs) | Special Assistant | DW220028 | 07/29/2023
DEPARTMENT OF THE INTERIOR | Secretary's Immediate Office | Deputy Director of Congressional Affairs—House | DI210085 | 07/29/2023
|  | Special Assistant to the Senior Counselor to the Secretary | DI220077 | 07/15/2023
DEPARTMENT OF THE TREASURY | Office of the Assistant Secretary (Public Affairs) | Senior Spokesperson | DY230003 | 07/24/2023
| Office of the Assistant Secretary (Tax Policy) | Senior Advisor for Climate Implementation | DY230007 | 07/03/2023
| Office of the General Counsel | Policy Advisor | DY220096 | 07/15/2023
| Secretary of the Treasury | Deputy Executive Secretary | DY210110 | 07/29/2023
|  | Senior Advisor | DY220071 | 07/15/2023
| Office of the Under Secretary for Domestic Finance | Senior Advisor | DY210090 | 07/01/2023
DEPARTMENT OF TRANSPORTATION | Office of the Executive Secretariat | Associate Director | DT220100 | 07/15/2023
| Immediate Office of the Administrator | Senior Advisor | DT220015 | 07/29/2023
| Office of Public Affairs and Public Engagement | Press Secretary Deputy Press Secretary | DT210092 DT230003 | 07/15/2023 07/15/2023
| Office of the Deputy Secretary | Special Assistant | DT210071 | 07/01/2023
|  | Advisor to the Deputy Secretary | DT220070 | 07/15/2023
| Office of the Secretary | Director of Scheduling and Advance | DT230002 | 07/29/2023
ENVIRONMENTAL PROTECTION AGENCY | Office of Public Affairs | Senior Advisor for Digital Strategies and Content Development | EP220007 | 07/16/2023
| Office of Public Engagement and Environmental Education | Public Engagement Specialist | EP220062 | 07/15/2023
| Office of the Administrator | White House Liaison | EP230085 | 07/07/2023
| Office of the Assistant Administrator for Enforcement and Compliance Assurance | Deputy Assistant Administrator for Enforcement and Compliance Assurance | EP230057 | 07/25/2023
| Office of the Assistant Administrator for Land and Emergency Management | Special Advisor | EP220063 | 07/01/2023
| Office of the Associate Administrator for Congressional and Intergovernmental Relations | Special Advisor for Senate Relations | EP220066 | 07/29/2023
GENERAL SERVICES ADMINISTRATION | Office of Congressional and Intergovernmental Affairs | Policy Advisor | GS220019 | 07/15/2023
OFFICE OF MANAGEMENT AND BUDGET | Office of the General Counsel | Confidential Assistant | BO210051 | 07/16/2023
| Office of Legislative Affairs | Deputy to the Associate Director | BO210031 | 07/02/2023
| Office of E-Government and Information Technology | Senior Advisor for Delivery (United States Digital Service) | BO210079 | 07/28/2023
OFFICE OF THE SECRETARY OF DEFENSE | Office of the Assistant to the Secretary of Defense (Public Affairs) | Research Assistant Chief of Staff | DD220133 DD220143 | 07/29/2023 07/01/2023
| Office of the Secretary of Defense | Staff Assistant to the Deputy Secretary of Defense | DD220161 | 07/01/2023
|  | Advance Officer | DD230026 | 07/01/2023
|  | Protocol Officer | DD230040 | 07/01/2023
| Office of the Under Secretary of Defense (Intelligence and Security) | Special Advisor to the Under Secretary of Defense (Intelligence and Security) | DD220142 | 07/01/2023
| Office of the Under Secretary of Defense (Policy) | Special Assistant (3) | DD210243 DD220197 DD220199 | 07/01/2023 07/01/2023 07/01/2023
| Washington Headquarters Services | Defense Fellow (5) | DD230117 DD230118 DD230120 DD230121 DD230149 | 07/01/2023 07/07/2023 07/29/2023 07/29/2023 07/19/2023
SMALL BUSINESS ADMINISTRATION | Office of Communications and Public Liaison | Digital Director | SB230026 | 07/14/2023
| Office of Congressional and Legislative Affairs | Deputy Associate Administrator (House) | SB210038 | 07/08/2023
| Office of Investment and Innovation | Senior Advisor | SB210043 | 07/29/2023
UNITED STATES INTERNATIONAL DEVELOPMENT FINANCE CORPORATION | Overseas Private Investment Corporation | Advisor | PQ220004 | 07/11/2023

Authority: 5 U.S.C. 3301 and 3302; E.O. 10577, 3 CFR, 1954-1958 Comp., p. 218.

Office of Personnel Management.
Kayyonne Marston,
Federal Register Liaison.

[FR Doc. 2024-11356 Filed 5-22-24; 8:45 am]

BILLING CODE 6325-39-P